NATIONAL AERONAUTICS AND SPACE ADMINISTRATION

[Notice 12-050]

NASA Advisory Council; Meeting

AGENCY: National Aeronautics and Space Administration.

ACTION: Notice of meeting.

SUMMARY: In accordance with the Federal Advisory Committee Act, Public Law 92-463, as amended, the National Aeronautics and Space Administration (NASA) announces a meeting of the NASA Advisory Council (NAC).

DATES: Wednesday, July 25, 2012, 12 p.m.-4:30 p.m.; Thursday, July 26, 2012, 9 a.m.-4:30 p.m.; and Friday, July 27, 2012, 9 a.m.-12 p.m.; Local Time.

ADDRESSES: NASA Goddard Space Flight Center (GSFC), Building 1, Rooms E100D/E, 8800 Greenbelt Road, Greenbelt, MD 20771-0001. (Visitors will first need to go to the Main Gate to gain access to this Federal facility.)

FOR FURTHER INFORMATION CONTACT: Ms. Marla King, NAC Administrative Officer, NASA Headquarters, Washington, DC 20546, 202-358-1148.

SUPPLEMENTARY INFORMATION: The meeting will be open to the public up to the seating capacity of the room. This meeting is also available telephonically and by WebEx. You must use a touch tone phone to participate in this meeting. Any interested person may call the USA toll-free conference call number (888) 989-9723 and then enter the numeric participant passcode: 39513 followed by the # sign. To join via WebEx the link is https://nasa.webex.com/, meeting number on July 25, 2012, is 997-683-462, and password N@C852??! On Thursday, July 26, 2012, the meeting number will be 997-683-462, and password N@C852??! On Friday, July 27, 2012, the meeting number will be 997-683-462, and password N@C852??!

The agenda for the meeting will include reports from the NAC Committees:

—Aeronautics

—Audit, Finance and Analysis

—Commercial Space

—Education and Public Outreach

—Human Exploration and Operations

—Information Technology Infrastructure

—Science

—Technology and Innovation

It is imperative that the meeting be held on these dates to accommodate the scheduling priorities of the key participants. All attendees will be requested to sign a register and to comply with NASA security requirements. Visitors must show valid State or Federal picture ID, green card, or passport, before receiving an access badge to enter into GSFC and must state that they are attending the NASA Advisory Council (NAC) meeting in Building 1. All U.S. citizens and green card holders desiring to attend must provide their full name, company affiliation (if applicable), and citizenship to the GSFC Protective Services Division no later than close of business on July 16, 2012. Foreign Nationals must provide the following information: full name, gender, date/place of birth, citizenship, home address, visa information (number, type, expiration date), passport information (number, country of issue, expiration date), employer/affiliation information (name of institution, title/position, address, country of employer, telephone, email address), and an electronically scanned or faxed copy of their passport and visa to the GSFC Security Office no later than the close of business on July 11, 2012. If the above information is not received by the noted dates, attendees should expect a minimum delay of two (2) hours. All visitors to this meeting will report to the Main Gate where they will be processed through Security prior to entering GSFC. Please provide the appropriate data, via fax 301-286-1230, noting at the top of the page “Public Admission to the NAC Meeting at GSFC.” For security questions, please contact Pam Starling at 301-286-6865 or pamela.a.starling@nasa.gov or alternate contact: Debbie Brasel at 301-286-6876 or deborah.a.brasel@nasa.gov.

Patricia D. Rausch,
Advisory Committee Management Officer, National Aeronautics and Space Administration.

[FR Doc. 2012-15644 Filed 6-26-12; 8:45 am]

BILLING CODE 7510-13-P